DEPARTMENT OF HOUSING AND URBAN DEVELOPMENT

[Docket No. FR-5480-N-01]

Notice of Submission of Proposed Information Collection to OMB Survey of Market Absorption of New Multifamily Units

AGENCY: Office of the Chief Information Officer, HUD.

ACTION: Notice.

SUMMARY: The proposed information collection requirement described below has been submitted to the Office of Management and Budget (OMB) for review, as required by the Paperwork Reduction Act. The Department is soliciting public comments on the subject proposal.

This survey provides the data necessary to measure the rate at which different types of new rental apartments and new condominium apartments are absorbed, that is, taken off the market, usually by being rented or sold, over the course of the first twelve months following completion of a building. The data is collected at quarterly intervals until the twelve months expire or until the units in a building are completely absorbed.

The survey also provides estimates of the characteristics of apartments being absorbed, and provides a basis for analyzing the degree to which apartment-building activity is meeting the present and future needs of the public. Data are collected under Title 12, U.S.C. Sec. 1701Z-1 and 2.

DATES: Comments Due Date: February 9, 2011.

ADDRESSES: Interested persons are invited to submit comments regarding this proposal. Comments should refer to the proposal by name and/or OMB approval Number (2528-0013) and should be sent to: HUD Desk Officer, Office of Management and Budget, New Executive Office Building, Washington, DC 20503; fax: 202-395-5806. E-mail: OIRA_Submission@omb.eop.gov.

FOR FURTHER INFORMATION CONTACT: Colette Pollard, Reports Management Officer, QDAM, Department of Housing and Urban Development, 451 Seventh Street, SW., Washington, DC 20410; e-mail Colette Pollard at Colette.Pollard@hud.gov or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Survey of Market Absorption of New Multifamily Units.

OMB Approval Number: 2528-0013.

Form Numbers: H-31.

Description of the Need for the Information and its Proposed Use

This survey provides the data necessary to measure the rate at which different types of new rental apartments and new condominium apartments are absorbed, that is, taken off the market, usually by being rented or sold, over the course of the first twelve months following completion of a building. The data is collected at quarterly intervals until the twelve months expire or until the units in a building are completely absorbed.

The survey also provides estimates of the characteristics of apartments being absorbed, and provides a basis for analyzing the degree to which apartment-building activity is meeting the present and future needs of the public. Data are collected under Title 12, U.S.C. 1701Z-1 and 2.

Members of Affected Public: Rental Agents/Builders.

Frequency of Submission: Four times (maximum).

Total Estimated Burden Hours: 4,000.

Status: Extension of a currently approved collection.

Authority: Section 3507 of the Paperwork Reduction Act of 1995, 44 U.S.C. 35, as amended.

Dated: January 4, 2011.
Colette Pollard,
Departmental Reports Management Officer, Office of the Chief Information Officer.

[FR Doc. 2011-291 Filed 1-7-11; 8:45 am]

BILLING CODE 4210-67-P